DEPARTMENT OF THE TREASURY

Internal Revenue Service

26 CFR Part 301

Discharge of Liens; Redemption by United States

CFR Correction

In Title 26 of the Code of Federal Regulations, Parts 300 to 499, revised as of April 1, 2012, on page 563, in § 301.7425-4, in paragraph (b)(5) Example 1, at the end of the third sentence, “$1,000” is corrected to read “$100,000”.

[FR Doc. 2012-25795 Filed 10-17-12; 8:45 am]

BILLING CODE 1505-01-D